DEPARTMENT OF THE INTERIOR

Bureau of Land Management

[OR-957-00-1420-BJ: GP03-0199]

Filing of Plats of Survey: Oregon/Washington

AGENCY: Bureau of Land Management, Interior.

ACTION: Notice.

SUMMARY: The plats of survey of the following described lands were officially filed in the Oregon State Office, Portland, Oregon, on March 17, 2003.

Willamette Meridian

Washington

T. 23 N., R. 13 W., accepted February 10, 2003

T. 30 N., R. 30 E., accepted February 10, 2003

The plats of survey of the following described lands were officially filed in the Oregon State Office, Portland, Oregon, May 5, 2003.

Oregon

T. 34 S., R. 7 W., accepted March 21, 2003

T. 15 S., R. 6 W., accepted April 18, 2003

T. 33 S., R. 11 W., accepted April 29, 2003

T. 33 S., R. 10 W., accepted April 29, 2003

T. 34 S., R. 11 W., accepted April 29, 2003

T. 37 S., R. 2 E., accepted April 29, 2003

A copy of the plats may be obtained from the Public Room at the Oregon State Office, Bureau of Land Management, 333 SW 1st Avenue, Portland, Oregon 97204, upon required payment. A person or party who wishes to protest against a survey must file a notice that they wish to protest (at the above address) with the State Director, Bureau of Land Management, Portland, Oregon.

For further information contact: Chief, Branch of Cadastral Survey, Bureau of Land Management, (333 SW 1st Avenue) P.O. Box 2965, Portland, Oregon 97208.

Dated: June 17, 2003.
Robert D. DeViney, Jr.,
Branch of Realty and Records Services.

[FR Doc. 03-18115 Filed 7-17-03; 8:45 am]

BILLING CODE 4310-33-P